DEPARTMENT OF COMMERCE

International Trade Administration

Export Trade Certificate of Review

ACTION: Notice of issuance of an Export Trade Certificate of Review, Application No. 03-00007.

SUMMARY: The Department of Commerce issued an Export Trade Certificate of Review to the Great Lakes Fruit Exporters Association, LLC (GLFEA), on December 15, 2003. This notice summarizes the conduct for which certification has been granted.

FOR FURTHER INFORMATION CONTACT: Jeffrey C. Anspacher, Director, Office of Export Trading Company Affairs, International Trade Administration, by telephone at (202) 482-5131 (this is not a toll-free number) or E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 2003). The Office of Export Trading Company Affairs (“OETCA”) is issuing this notice pursuant to 15 CFR 325.6(b), which requires the Department of Commerce to publish a summary of a Certificate in the Federal Register. Under section 305 (a) of the Act and 15 CFR 325.11(a), any person aggrieved by the Secretary's determination may, within 30 days of the date of this notice, bring an action in any appropriate district court of the United States to set aside the determination on the ground that the determination is erroneous.

Description of Certified Conduct

Export Trade:

1. Products

Fresh apples.

2. Services

All export-related services, including, but not limited to, international market research, marketing, advertising, sales promotion, brokering, handling, transportation, common marking and identification, communication and processing of foreign orders to and for members, financing, export licensing and other trade documentation, warehousing, shipping, legal assistance, foreign exchange and taking title to goods.

3. Technology Rights

Technology rights, including, but not limited to, patents, trademarks, copyrights and trade secrets that relate to products and services.

4. Export Trade Facilitation Services (As They Relate to the Export of Products, Services and Technology Rights)

Export trade facilitation services, including, but not limited to, professional services and assistance relating to: Government relations; State and Federal export programs; foreign trade and business protocol; consulting; market research and analysis; collection of information on trade opportunities; marketing; negotiations; joint ventures; shipping and export management; export licensing; advertising; documentation and services related to compliance with customs requirements; insurance and financing; trade show exhibitions; organizational development; management and labor strategies; transfer of technology; transportation services; and the formation of shippers' associations.

Export Markets

The export markets include all parts of the world except the United States (the 50 States of the United States, the District of Columbia, the Commonwealth of Puerto Rico, the Virgin Islands, American Samoa, Guam, the Commonwealth of the Northern Mariana Islands, and the Trust Territory of the Pacific Islands).

Export Trade Activities and Methods of Operation

1. With respect to the sale of products and services, licensing of technology rights and provisions of export trade facilitation services, GLFEA on its own or on behalf of any of its members may:

a. Establish sale prices, minimum sale prices, target sale prices and/or minimum target sale prices and other terms of sale in export markets;

b. Conduct marketing and distribution of fresh apples in export markets;

c. Conduct promotion of fresh apples;

d. Agree on quantities of fresh apples to be sold provided that each member shall be required to dedicate only that quantity or quantities as each member shall independently determine.

e. Allocate geographic areas or countries in the export markets and/or customers in export markets among members.

f. Refuse to quote prices for fresh apples, or to market or sell fresh apples, to or for any customers in the export markets, or any countries or geographic areas in the export markets.

g. Enter into exclusive and nonexclusive agreements appointing one or more export intermediaries for the sales of fresh apples with price, quantity, territorial and/or customer restrictions as provided above.

2. GLFEA and it members may exchange and discuss the following information:

a. Information about sale and marketing efforts for the export markets, activities and opportunities for sales of fresh apples in the export markets, selling strategies for the export markets, sales for the export markets, contract and spot pricing in the export markets, projected demands in the export markets for fresh apples, customary terms of sale in the export markets, prices and availability of fresh apples from competitors for sale in the export markets, and specifications for fresh apples by customers in the export markets;

b. Information about the price, quality, quantity, source, and delivery dates of fresh apples available from the members to export;

c. Information about terms and conditions of contracts for sale in the export markets to be considered and/or bid on by GLFEA and its members;

d. Information about joint bidding or selling arrangements for the export markets and allocations of sales resulting from such arrangements among the members;

e. Information about expenses specific to exporting to and within the export markets, including without limitation, transportation, trans- or intermodel shipments, insurance, inland freights to port, port storage, commissions, export sales, documentation, financing, customs, duties, and taxes;

f. Information about U.S. and foreign legislation and regulations, including Federal marketing order programs, affecting sales for the export markets;

g. Information about GLFEA or its members' export operations, including without limitation, sales and distribution networks established by GLFEA or its members in the export markets, and prior export sales by members (including export price information); and

h. Information about export customer credit terms and credit history.

3. GLFEA and its members may meet to engage in the activities described in items 1 and 2 above.

Members (Within the Meaning of Section 325.2(l) of the Regulations)

Greg Orchards and Produce, Inc., Benton Harbor, Michigan; Riveridge Produce Marketing, Inc., Sparta, Michigan; North Bay Produce, Inc., Traverse City, Michigan; Applewood Orchards, Inc., Deerfield, Michigan; Heeren Brothers Inc., d/b/a Heeren Brothers Produce, Grand Rapids, Michigan; Greenridge Fruit, Inc., Grand Rapids, Michigan; Jack Brown Produce, Inc., Sparta, Michigan; BelleHarvest Sales, Inc., Belding, Michigan; A.J.'s Produce Inc., Casnovia, Michigan; and Appletree Marketing LLC, Ada, Michigan. Review continue to comply with the standards of section 303(a) of the Act.

Protection Provided by Certificate

This Certificate protects GLFEA and its directors, officers, and employees acting on its behalf, as well as its members, and their directors, officers, and employees acting on their behalf, from private treble damage actions and governmental criminal and civil suits under U.S. Federal and State antitrust laws for the export conduct specified in the Certificate and carried out during its effective period in compliance with its terms and conditions.

Definitions

1. “Supplier” means a person who produces, provides, or sells a product and/or service.

Dated: February 17, 2004.
Jeffrey C. Anspacher,
Director, Office of Export Trading Company Affairs.

[FR Doc. 04-3871 Filed 2-23-04; 8:45 am]

BILLING CODE 3510-DR-P